DEPARTMENT OF AGRICULTURE

Agricultural Marketing Service

7 CFR Part 205

[Document Number AMS-NOP-11-0009; NOP-11-04PR]

RIN 0581-AD08

National Organic Program; Origin of Livestock

AGENCY: Agricultural Marketing Service, USDA.

ACTION: Proposed rule; reopening of comment period.

SUMMARY: The U.S. Department of Agriculture (USDA) Agricultural Marketing Service (AMS) is reopening the comment period on our April 28, 2015, proposed rule to amend the origin of livestock requirements for dairy animals under the USDA organic regulations. We are reopening the proposed rule's comment period for 60 days to give all interested parties an additional opportunity to comment on the proposed rule. Comments previously submitted need not be resubmitted, as they are already incorporated into the public record and will be fully considered in any future final rule.

DATES: The comment period on the proposed rule that published April 28, 2015 (80 FR 23455) is reopened. We will accept comments received or postmarked on or before December 2, 2019.

ADDRESSES: You may submit comments on this proposed rule via the Federal eRulemaking Portal at https://www.regulations.gov/. You can access a copy of the proposed rule, previous public comments received, and instructions for submitting public comments by searching for docket number AMS-NOP-11-0009. Comments may also be sent to: Paul Lewis, Standards Division, National Organic Program, USDA-AMS-NOP, 1400 Independence Ave. SW, Room 2642-So., Ag Stop 0268, Washington, DC 20250-0268; (202) 260-9151 (fax).

Instructions: All submissions received must include docket number AMS-NOP-11-0009 or Regulatory Information Number (RIN) 0581-AD08 for this rulemaking. You should clearly indicate the topic and section number of this proposed rule to which your comment refers, state your position(s), offer any recommended language change(s), and include relevant information and data to support your position(s) (e.g., scientific, environmental, manufacturing, industry, or industry impact information, etc.). All comments and relevant background documents posted to https://www.regulations.gov will include any personal information provided.

FOR FURTHER INFORMATION CONTACT: Paul Lewis, Ph.D., Director, Standards Division, National Organic Program, AMS, USDA; email PaulI.Lewis@usda.gov; telephone (202) 720-3252.

SUPPLEMENTARY INFORMATION:

Background

On April 28, 2015, AMS (“we”) published in the Federal Register (80 FR 23455) a proposed rule to clarify requirements for organic dairy farms under the USDA organic regulations. The proposed rule would add requirements about transitioning dairy animals to organic production. Please refer to the proposed rule for information about AMS' proposed changes, rationale, and analysis, including estimated costs and benefits. AMS received over 1,500 public comments on the proposed rule. These comments may be viewed at https://www.regulations.gov under docket number AMS-NOP-11-0009.

This document notifies the public that we are reopening the comment period on the April 28, 2015, proposed rule.

Information Requested

AMS will accept written comments and information on our April 28, 2015, proposed rule. We will consider information and recommendations from all interested parties. In the proposed rule, AMS requested comments on the following topics:

1. The cost and benefit analysis presented, including assumptions and estimates, of limiting dairy transition to a one-time exception for a given producer;

2. Procedures that certifying agents would use under this proposal to determine whether a producer is eligible for the one-time transition; and

3. The proposed implementation approach for this rule.

If you submitted comments or information on the April 28, 2015, proposed rule (80 FR 23455), please do not resubmit them unless you have new or different information to provide. All previous public comments will remain part of the public record, and we will fully consider them in the preparation of any final determinations. These comments can be viewed at https://www.regulations.gov under docket number AMS-NOP-11-0009.

Any final determinations would consider all written comments and any additional information we receive during all comment periods.

You may submit your comments and materials concerning the proposed rule by one of the methods listed in ADDRESSES. If you submit a comment via https://www.regulations.gov, your entire comment—including any personal identifying information—will be posted on the website. We will post all hardcopy comments on https://www.regulations.gov as well.

Comments and materials we receive will be available for public inspection on https://www.regulations.gov under Docket No. AMS-NOP-11-0009. You may obtain copies of the proposed rule on https://www.regulations.gov under Docket No. AMS-NOP-11-0009, or by mail from the National Organic Program Office (see FOR FURTHER INFORMATION CONTACT).

Authority

The Organic Foods Production Act of 1990, as amended (7 U.S.C. 6501 et seq.), is the authority for this action.

Dated: September 20, 2019.
Bruce Summers,
Administrator, Agricultural Marketing Service.

[FR Doc. 2019-20869 Filed 9-30-19; 8:45 am]

BILLING CODE 3410-02-P